ELECTION ASSISTANCE COMMISSION

Sunshine Act Notice

AGENCY: United States Election Assistance Commission.

ACTION: Notice of public meeting agenda (amended).

DATES AND TIME: Tuesday, December 14, 2004, 10 a.m.-12 noon.

PLACE: U.S. Election Assistance Commission, 1225 New York Ave., NW., Suite 1100, Washington, DC 20005, (Metro Stop: Metro Center).

AGENDA: The Commission will receive updates and reports on the following: Title II Requirements Payments; Budget Update; EAC's 2005 HAVA Implementation Action Plan including specific discussion on the Development and Establishment of Statewide Voter Registration Databases; Other Programmatic Updates and Administrative Matters.

FOR FURTHER INFORMATION CONTACT: Bryan Whitener, Telephone: (202) 566-3100.

DeForest B. Soaries, Jr.,
Chairman, U.S. Election Assistance Commission.

[FR Doc. 04-27247 Filed 12-8-04; 11:00 am]

BILLING CODE 6820-YN-M